DEPARTMENT OF LABOR

Office of the Secretary

Agency Information Collection Activities: Proposed Collection; Comment Request

AGENCY: GovBenefits Office, U.S. Department of Labor.

ACTION: Notice of an opportunity for public comment.

SUMMARY: The Department of Labor, as part of its continuing effort to reduce paperwork and respondent burden, conducts a pre-clearance consultation program to provide the general public and Federal agencies with an opportunity to comment on proposed the proposed continued collections of information in accordance with the Paperwork Reduction Act of 1995 (PRA) [44 U.S.C. 3506C(2)(A)]. This program helps to ensure that requested data can be provided in the desired format, reporting burden (time and financial resources) is minimized, collection instruments are clearly understood, and the impact of collection requirements on respondents can be properly assessed. A copy of the proposed information collection request (ICR) can be obtained by contacting the office listed below in the ADDRESSES section of this notice.

DATES: Comments are to be submitted by September 16, 2005.

ADDRESSES: A copy of the ICR and supporting documentation as submitted to the Office of Management and Budget (OMB) can be obtained by contacting the Department of Labor. To obtain copies, contact Darrin King on 202-693-4129 (this is not a toll-free number) or e-mail: king.darrin@dol.gov. Send comments regarding this proposed collection of information, including suggestions for reducing the burden to the U.S. Department of Labor, GovBenefits Office, FPB, Room N-4309, Washington, DC 20210.

SUPPLEMENTARY INFORMATION:

I. Background

The President's Management Agenda for E-Government (February 27, 2002) sets forth a strategy for simplifying the delivery of services to citizens. The President's agenda outlines a Federal E-Government Enterprise Architecture that will transition the management and delivery of government services from a bureaucracy-centered to a citizen-centered paradigm. To this end, the Department of Labor serves as the managing partner of the Administration's “GovBenefits” strategy for assisting citizens in identifying and locating information on benefits sponsored by the Federal government and State governments. This tool will greatly reduce the burden on citizens attempting to locate services available from many different government agencies by providing one-stop access to information on obtaining those services.

Respondents answer a series of questions to the extent necessary for locating relevant information on Federal benefits. Responses are used by the respondent to expedite the identification and retrieval of sought after information and resources pertaining to the benefits sponsored by the Federal Government.

II. Desired Focus of Comments

The Department of Labor is particularly interested in comments which:

• Evaluate whether the proposed collection of information is necessary for the proper performance of the functions of the agency, including whether the information will have practical utility;

• Evaluate the accuracy of the agency's estimate of the burden of the proposed collection of information; including the validity of the methodology and assumptions used.

• Enhance the quality, utility, and clarity of the information to be collected; and

• Minimize the burden of the collection of information on those who are to respond, including through the use of appropriate automated, electronic, mechanical, or other technological collection techniques or other forms of information technology, e.g., permitting electronic submissions of responses.

III. Current Actions

OMB approval for this collection of information is currently scheduled to expire on December 31, 2005. This notice requests extended approval from OMB for the collection of information required for locating information on the GovBenefits web site.

Type of Review: Extension of a currently approved collection.

Agency: Office of the Secretary.

Title: Information Collection Plan for GovBenefits.

OMB Number: 1290-0003.

Affected Public: Individuals or households; Not-for-profit institutions.

Frequency: On occasion.

Number of Respondents: 6,367,428.

Number of Responses: 6,367,428.

Average Time per Response: 2 minutes

Estimated Burden Hours: 191,023 hours

Total Annualized Capital/startup costs: $0.

Total Initial Annual Costs: $0.

Comments submitted in response to this notice will be summarized and included in the agency's request for OMB approval of the information collection request. Comments will become a matter of public record.

Dated: June 28, 2005.
Cesar Deguzman,
Department of Labor, GovBenefits Project Manager.

[FR Doc. 05-14022 Filed 7-15-05; 8:45 am]

BILLING CODE 4510-23-P